DEPARTMENT OF ENERGY

Federal Energy Regulatory Commission

[Docket No. CP13-113-000]

Dominion Cove Point LNG, LP; Notice of Designation of Commission Staff as Non-Decisional

With respect to the proceeding in the above-captioned docket, the staff listed below from the Office of External Affairs are designated as non-decisional in deliberations by the Commission in this docket. Accordingly, pursuant to 18 CFR 385.2202 (2013), they will not serve as advisors to the Commission. Likewise, as non-decisional staff, pursuant to 18 CFR 385.2201 (2013), they are prohibited from communicating with advisory staff concerning any deliberations in this docket.

Non-decisional employees:

Sarah McKinley, Angela Washington, Janeen Said.

Dated: September 16, 2014.
Kimberly D. Bose,
Secretary.

[FR Doc. 2014-22646 Filed 9-23-14; 8:45 am]

BILLING CODE 6717-01-P